DEPARTMENT OF ENERGY

Federal Energy Regulatory Commission

[Project No. 2146-130]

Alabama Power Company; Notice of Application for Amendment of License and Soliciting Comments, Motions To Intervene, and Protests

November 30, 2010.

a. Type of Application: Non-project use of project lands and waters.

b. Project Number: 2146-130.

c. Date Filed: November 11, 2010.

d. Applicant: Alabama Power Company.

e. Name of Project: Coosa River Project.

f. Location: The proposed non-project use is located on Logan Martin Lake, in Talladega County, Alabama.

g. Filed Pursuant to: Federal Power Act, 16 USC 791a-825r.

h. Applicant Contact: Mr. Keith E. Bryant, Senior Engineer, Alabama Power Company, 600 18th Street North, Birmingham, AL, 35203, (205) 257-1403.

i. FERC Contact: Shana High at (202) 502-6874; shana.high@ferc.gov.

j. Deadline for filing comments and or motions: December 30, 2010.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street, NE., Washington, DC 20426. Commenters can submit brief comments up to 6,000 characters, without prior registration, using the eComment system at http://www.ferc.gov/docs-filing/ecomment.asp. You must include your name and address and contact information at the end of your comments.

k. Description of Request: Alabama Power Company filed an application seeking Commission authorization to permit The City of Riverside, AL to redevelop an existing commercial marina. Existing facilities include a concrete boat launch ramp, rip-rap, access channel, and landscaping. Existing facilities that would be re-built in place at their current dimensions include a floating fuel dock and two floating courtesy docks. Proposed new facilities include a fixed pier with LED lighting, access stairs and sidewalk to the pier, boardwalk with LED lighting, access stairs and sidewalk to the boardwalk, gravel path, overnight campground space for River Trail paddlers, and five picnic tables. No dredging or fill is proposed.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (P-2146) to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filings and Service of Responsive Documents: Any filing must (1) Bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in reference to this application must be accompanied by proof of service on all persons listed in the service list prepared by the Commission in this proceeding, in accordance with 18 CFR 4.34(b) and 385.2010.

Kimberly D. Bose,
Secretary.

[FR Doc. 2010-30598 Filed 12-6-10; 8:45 am]

BILLING CODE 6717-01-P